FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 8, 2019.

A. Federal Reserve Bank of Minneapolis (Mark A. Rauzi, Vice President), 90 Hennepin Avenue, Minneapolis, Minnesota 55480-0291:

1. Penelope K. Lee, Alexandria, Minnesota, individually and as co-trustee of the Eleanor Kaiser Trust A for the benefit of Penelope K. Lee, the Eleanor Kaiser Trust B for the benefit of Penelope K. Lee, and the Eleanor Kaiser Irrevocable Trust for the benefit of Penelope K. Lee (together, the “Trusts FBO Ms. Lee” trustees Lake Elmo Bank, Oakdale, Minnesota (branch of Lake Elmo Bank, Lake Elmo, Minnesota), and Penelope K. Lee); to retain control of the First National Agency of Bagley, Inc. (“Company”) and thereby indirectly retain control of First National Bank (“Bank”), both of Bagley, Minnesota. Additionally, Penelope K. Lee; Trusts FBO Ms. Lee; Whitney Lee, Minneapolis, Minnesota; Tammy Lee Morell, San Diego, California; and Kyle Lee, Cave Creek, Arizona, as a group acting in concert, to retain voting shares of Company and thereby indirectly retain shares of Bank.

2. William C. Rosacker, Burnsville, Minnesota; William C. Rosacker II, Minnetonka, Minnesota; and Stephanie L. Forbes, Prior Lake, Minnesota; as a group acting in concert, to retain shares of First National Agency of Bagley, Inc. and thereby indirectly retain shares of First National Bank, both of Bagley, Minnesota.

B. Federal Reserve Bank of Dallas (Robert L. Triplett III, Senior Vice President) 2200 North Pearl Street, Dallas, Texas 75201-2272:

1. James Samuel Reeves, Parkville, Missouri; Kristin Courtney Thurman, Austin, Texas; Brent Teague Thurman, Englewood, Colorado; Kimberly Colleen Bessent, Fort Worth, Texas; Mace Baxter Thurman, Spicewood, Texas; Miles Brandon Thurman, Richardson, Texas; Macayla Brooke Thurman, Austin, Texas; John Glynn Martino, Phillip Keen Martino, and Helen Leann Sanchez, all of Moody, Texas; to apply for permission to join the Thurman Family Group, as a group acting in concert, and for the Thurman Family Group to retain voting shares of Reynolds, Teague, Thurman Financial Corp., and indirectly, The First National Bank of Moody, both of Moody, Texas.

Board of Governors of the Federal Reserve System, April 19, 2019.
Yao-Chin Chao,
Assistant Secretary of the Board.

[FR Doc. 2019-08244 Filed 4-23-19; 8:45 am]

BILLING CODE P